EXPORT-IMPORT BANK

Economic Impact Policy

This notice is to inform the public that the Export-Import Bank of the United States has received an application for a $21 million guarantee to support the $19 million export of a wire rod mill to the Czech Republic. The U.S. export will replace an existing facility and enable the Czech company to expand its production of wire rod by approximately 50,000 metric tons annually during the 8.5-year repayment term of the obligation. Available information indicates that the additional wire rod production will be sold domestically in the Czech Republic and Slovakia, Germany, and Italy.

Interested parties may submit comments on this transaction by email to economic.impact@exim.gov or by mail to 811 Vermont Avenue NW., Room 947, Washington, DC 20571, within 14 days of the date this notice appears in the Federal Register.

Kathryn Hoff-Patrinos,
Deputy General Counsel.

[FR Doc. 2012-21548 Filed 8-30-12; 8:45 am]

BILLING CODE 6690-01-P